DEPARTMENT OF HOMELAND SECURITY

Federal Emergency Management Agency

[Docket ID FEMA-2014-0002; Internal Agency Docket No. FEMA-B-1427]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 30, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1427, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Weld County, Colorado, and Incorporated Areas
Maps Available for Inspection Online at: http://www.fema.gov/preliminaryfloodhazarddata
City of Dacono | City Hall, 512 Cherry Street, Dacono, CO 80514.
City of Evans | City Hall, 110 37th Street, Evans, CO 80620.
City of Fort Lupton | City Hall, 130 South McKinley Avenue, Fort Lupton, CO 80621.
City of Greeley | City Hall, 1000 10th Street, Greeley, CO 80631.
Town of Ault | Town Hall, 201 1st Street, Ault, CO 80610.
Town of Eaton | Town Hall, 223 1st Street, Eaton, CO 80615.
Town of Firestone | Town Hall, 151 Grant Avenue, Firestone, CO 80520.
Town of Frederick | Town Hall, 401 Locust Street, Frederick, CO 80530.
Town of Gilcrest | Town Hall, 304 8th Street, Gilcrest, CO 80623.
Town of Hudson | Town Hall, 557 Ash Street, Hudson, CO 80642.
Town of Keenesburg | Town Hall, 140 South Main Street, Keenesburg, CO 80643.
Town of La Salle | Town Hall, 128 North 2nd Street, La Salle, CO 80645.
Town of Mead | Town Hall, 441 3rd Street, Mead, CO 80542.
Town of Milliken | Town Hall, 1101 Broad Street, Milliken, CO 80543.
Town of Nunn | Town Hall, 185 Lincoln Avenue, Nunn, CO 80648.
Town of Pierce | Town Hall, 240 Main Street, Pierce, CO 80650.
Town of Platteville | Town Hall, 400 Grand Avenue, Platteville, CO 80651.
Town of Severance | Town Hall, 231 West 4th Avenue, Severance, CO 80546.
Town of Windsor | Town Hall, 301 Walnut Street, Windsor, CO 80550.
Unincorporated Areas of Weld County | County Commissioner's Office, 915 10th Street, Greeley, CO 80632.
Bullitt County, Kentucky, and Incorporated Areas
Maps Available for Inspection Online at: www.fema.gov/preliminaryfloodhazarddata
City of Fox Chase | 149 North Walnut Street, 3rd Floor, Shepherdsville, KY 40165.
City of Hebron Estates | 3407 Burkland Boulevard, Shepherdsville, KY 40165.
City of Hillview | 283 Crestwood Lane, Louisville, KY 40229.
City of Lebanon Junction | 271 Main Street, Lebanon Junction, KY 40150.
City of Mount Washington | 275 Snapp Street, Mount Washington, KY 40047.
City of Shepherdsville | 634 Conestoga Parkway, Shepherdsville, KY 40165.
Unincorporated Areas of Bullitt County | 149 North Walnut Street, 3rd Floor, Shepherdsville, KY 40165.
Mercer County, North Dakota, and Incorporated Areas
Maps Available for Inspection Online at: www.fema.gov/preliminaryfloodhazarddata
City of Beulah | Beulah City Hall, 120 Central Avenue North, Beulah, ND 58523.
City of Golden Valley | City Hall, 110 1st Avenue SW., Golden Valley, ND 58541.
City of Hazen | City Planner, 146 Main Street East, Hazen, ND 58545.
City of Stanton | City Hall, 109 Harmon Avenue, Stanton, ND 58571.
City of Zap | Auditor, City of Zap, 121 Main Street, Zap, ND 58580.
Three Affiliated Tribes of the Fort Berthold Reservation | Three Affiliated Tribes of Fort Berthold, 404 Frontage Road, New Town, ND 58763.
Unincorporated Areas of Mercer County | Department of Emergency Services, 1021 Arthur Street, Stanton, ND 58571.
Morton County, North Dakota, and Incorporated Areas
Maps Available for Inspection Online at: http://www.fema.gov/preliminaryfloodhazarddata
City of Hebron | City Hall, 620 Washington Avenue, Hebron, ND 58638.
City of Mandan | City Hall, 205 2nd Avenue NW., Mandan, ND 58554.
Unincorporated Areas of Morton County | Morton County Courthouse, 210 2nd Avenue NW., Mandan, ND 58554.
Teton County, Wyoming, and Incorporated Areas
Maps Available for Inspection Online at: www.fema.gov/preliminaryfloodhazarddata
Unincorporated Areas of Teton County | Teton County Engineering Office, 320 South King Street, Jackson, WY 83001.

(Catalog of Federal Domestic Assistance No. 97.022, “Flood Insurance.”)

Dated: July 11, 2014.
Roy E. Wright,
Deputy Associate Administrator for Mitigation, Department of Homeland Security, Federal Emergency Management Agency.

[FR Doc. 2014-18275 Filed 7-31-14; 8:45 am]

BILLING CODE 9110-12-P